DEPARTMENT OF HEALTH AND HUMAN SERVICES

Food and Drug Administration

[Docket No. 02N-0054]

Agency Information Collection Activities; Proposed Collection; Comment Request; Labeling Requirements for Color Additives (Other Than Hair Dyes) and Petitions; Correction

AGENCY: Food and Drug Administration, HHS.

ACTION: Notice; correction.

SUMMARY: The Food and Drug Administration (FDA) is correcting a notice that appeared in the Federal Register of February 28, 2002 (67 FR 9297). The document announced an opportunity for public comment on the proposed collection of certain information by the agency; specifically, comments on requirements relating to the approval and labeling of color additives.

FOR FURTHER INFORMATION CONTACT: Doris Tucker, Office of Policy, Planning, and Legislation (HF-27), Food and Drug Administration, 5600 Fishers Lane, Rockville, MD 20857, 301-827-7010.

SUPPLEMENTARY INFORMATION: In FR Doc. 02-4859, appearing on page 9297 in the Federal Register of Thursday, February 28, 2002, the following correction is made:

1. On page 9297, in the third column, under SUPPLEMENTARY INFORMATION, the OMB control number “0910-01850” is corrected to read “0910-0185”.

Dated: March 22, 2002.
Margaret M. Dotzel,
Associate Commissioner for Policy.

[FR Doc. 02-7525 Filed 3-28-02; 8:45 am]

BILLING CODE 4160-01-S